DEPARTMENT OF TRANSPORTATION

Federal Aviation Administration

14 CFR Part 39

[Docket No. FAA-2012-0671; Directorate Identifier 2011-NM-096-AD; Amendment 39-17197; AD 2012-19-02]

RIN 2120-AA64

Airworthiness Directives; Airbus Airplanes

AGENCY: Federal Aviation Administration (FAA), Department of Transportation (DOT).

ACTION: Final rule.

SUMMARY: We are superseding an existing airworthiness directive (AD) for all Airbus Model A330-243, -341, -342 and -343 airplanes. That AD currently requires modifying certain cowl assemblies of the left- and right-hand thrust reversers. This new AD requires removing certain C-duct assemblies of the left- and right-hand thrust reversers from service at certain designated life limits, and also adds airplanes to the applicability. This AD was prompted by new life limits on certain thrust reverser C-duct assemblies. We are issuing this AD to prevent fatigue cracking of the hinges integrated into the 12 o'clock beam of the thrust reversers, which could result in separation of a thrust reverser from the airplane, and consequent reduced controllability of the airplane.

DATES: This AD becomes effective October 23, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION:

Discussion

We issued a notice of proposed rulemaking (NPRM) to amend 14 CFR part 39 to include an AD that would apply to the specified products. That NPRM was published in the Federal Register on June 25, 2012 (77 FR 37829), and proposed to supersede AD 2005-25-21, Amendment 39-14414 (70 FR 73919, December 14, 2005). That NPRM proposed to correct an unsafe condition for the specified products. The MCAI states:

The life limits of the thrust reversers C-Ducts are not addressed by the definition of the structural life limits of Safe Life items as defined in the A330 Airworthiness Limitations Section—ALS Part 1. As a result, these life limits are covered by an Airworthiness Directive (AD).

These life limits are due to unexpected high fatigue loads (measured during certification tests) on the hinges integrated into the 12 o'clock beam, which forms the upper extreme edge of the thrust reverser C-Duct of Rolls Royce Trent 700 engines.

The aim of the [Direction Générale de l'Aviation Civile] (DGAC) France AD F-2001-528 was to mandate the life limits, depending of the modifications applied to the C-Duct.

Revision 1 of the DGAC France AD F-2001-528 deferred the accomplishment threshold of the modification to be applied in-service from 6,000 flight cycles (FC) to 6,500 FC.

Revision 2 of DGAC France AD F-2001-528 [which corresponds to FAA AD 2005-25-21, Amendment 39-14414 (70 FR 73919, December 14, 2005)] was issued to update again the accomplishment threshold from 6,500 FC to 7,200 FC.

This [European Aviation Safety Agency (EASA)] AD retains the requirements of DGAC France AD F-2001-528 R2, which is superseded, and adds [certain] life limits.

The action required in this AD is removing certain C-duct assemblies of the left- and right-hand thrust reversers from service at certain designated life limits. This AD also adds Model A330-243F airplanes to the applicability, and revises the applicability to include all airplanes of the affected models. The unsafe condition is fatigue cracking of the hinges integrated into the 12 o'clock beam of the thrust reversers, which could result in separation of a thrust reverser from the airplane, and consequent reduced controllability of the airplane. You may obtain further information by examining the MCAI in the AD docket.

Comments

We gave the public the opportunity to participate in developing this AD. We received no comments on the NPRM (77 FR, 37829, June 25, 2012), or on the determination of the cost to the public.

Conclusion

We reviewed the available data and determined that air safety and the public interest require adopting the AD as proposed, except for minor editorial changes. We have determined that these minor changes:

• Are consistent with the intent that was proposed in the NPRM (77 FR 37829, June 25, 2012) for correcting the unsafe condition; and

• Do not add any additional burden upon the public than was already proposed in the NPRM (77 FR 37829, June 25, 2012).

Costs of Compliance

We estimate that this AD will affect about 17 products of U.S. registry.

We estimate that it will take about 48 work-hours per product to comply with the new basic requirements of this AD. The average labor rate is $85 per work-hour. Based on these figures, we estimate the cost of this AD to the U.S. operators to be $69,360, or $4,080 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 37829, June 25, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2005-25-21, Amendment 39-14414 (70 FR 73919, December 14, 2005), and adding the following new AD:

2012-19-02 Airbus: Amendment 39-17197. Docket No. FAA-2012-0671; Directorate Identifier 2011-NM-096-AD.

(a) Effective Date

This airworthiness directive (AD) becomes effective October 23, 2012.

(b) Affected ADs

This AD supersedes AD 2005-25-21, Amendment 39-14414 (70 FR 73919, December 14, 2005).

(c) Applicability

This AD applies to all Airbus Model A330-243, -243F, -341, -342 and -343 airplanes, certificated in any category.

(d) Subject

Air Transport Association (ATA) of America Code 78, Engine Exhaust.

(e) Reason

This AD was prompted by new life limits on certain thrust reverser C-duct assemblies. We are issuing this AD to prevent fatigue cracking of the hinges integrated into the 12 o'clock beam of the thrust reversers, which could result in separation of a thrust reverser from the airplane, and consequent reduced controllability of the airplane.

(f) Compliance

You are responsible for having the actions required by this AD performed within the compliance times specified, unless the actions have already been done.

(g) C-duct Assembly Removal

At the applicable compliance time specified in table 1 to paragraph (g) of this AD: Remove the applicable C-duct assemblies of the left- and right-hand thrust reversers, in accordance with a method approved by either the Manager, International Branch, ANM-116, Transport Airplane Directorate, FAA; or the European Aviation Safety Agency (EASA) (or its delegated agent). Thereafter, for any C-duct assembly of the left- and right-hand thrust reversers installed after the effective date of this AD, before the accumulation of the applicable total flight cycles specified in table 1 to paragraph (g) of this AD: Remove the C-duct assembly, in accordance with a method approved by either the Manager, International Branch, ANM-116; or the EASA (or its delegated agent).

Table 1 to Paragraph (g) of This AD—Part Removal Thresholds
Part No.— | Compliance times at the later of the times specified—
HDTR3410L, HDTR3410R, HDTR3411L, HDTR3411R, HDTR3412R, HDTR3413R | Before the accumulation of 10,000 total flight cycles since the first installation of C-duct on the airplane | Within 3 months after the effective date of this AD.
HDTR3414L, HDTR3416R, HDTR3417R that have been modified in service as specified in Airbus Mandatory Service Bulletin A330-78-3010 or Rolls-Royce Service Bulletin RB.211-78-C899 at 7,200 total flight cycles or more since first installation on an airplane | Before the accumulation of 10,000 total flight cycles since the first installation of C-duct on the airplane | Within 3 months after the effective date of this AD.
HDTR3414L, HDTR3416R, HDTR3417R that have been modified in production by Airbus Modification 47316 or that have been modified in service as specified in Airbus Mandatory Service Bulletin A330-78-3010 or Rolls-Royce Service Bulletin RB.211-78-C899, before the accumulation of 7,200 total flight cycles since first installation on an airplane | Before the accumulation of 25,000 total flight cycles since the first installation of C-duct on the airplane | Within 3 months after the effective date of this AD.
HDTR3412L, HDTR3416L, HDTR3417L, HDTR3414R, HDTR3419R, HDTR3420R | Before the accumulation of 25,000 total flight cycles since the first installation of C-duct on the airplane | Within 3 months after the effective date of this AD.
HDTR3413L, HDTR3415R, HDTR3415L, HDTR3418R | Before the accumulation of 40,000 total flight cycles since the C-duct was new | Within 3 months after the effective date of this AD.

(h) Other FAA AD Provisions

The following provisions also apply to this AD:

(1) Alternative Methods of Compliance (AMOCs): The Manager, International Branch, ANM-116, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI EASA Airworthiness Directive 2011-0018, dated February 3, 2011; for related information.

(j) Material Incorporated by Reference

None.

Issued in Renton, Washington, on September 6, 2012.
Ali Bahrami,
Manager, Transport Airplane Directorate, Aircraft Certification Service.

[FR Doc. 2012-22954 Filed 9-17-12; 8:45 am]

BILLING CODE 4910-13-P